DEPARTMENT OF JUSTICE

[CPCLO Order No. 002-2008]

Privacy Act of 1974; System of Records

AGENCY: Environment and Natural Resources Division, Department of Justice.

ACTION: Notice of a New System of Records.

SUMMARY: Pursuant to the Privacy Act of 1974 (5 U.S.C. 552a), the Environment and Natural Resources Division (ENRD), Department of Justice, proposes to establish a new system of records to store personnel locator information entitled, “Personnel Locator System, JUSTICE/ENRD-002.” The Personnel Locator System will include modules with locator information (including professional background held by particular staff) as well as emergency contact information.

DATES: In accordance with 5 U.S.C. 552a(e)(4) and (11), the public is given a 30-day period in which to comment; and the Office of Management and Budget (OMB), which has oversight responsibility under the Act, requires a 40-day period in which to conclude its review of the system. Therefore, please submit any comments by August 19, 2008.

ADDRESSES: The public, OMB, and Congress are invited to submit any comments to the Department of Justice, Attn: Kirsten J. Moncada, Director, Office of Privacy and Civil Liberties, Department of Justice, National Place Building, 1331 Pennsylvania Avenue, Suite 940, Washington, DC 20530.

FOR FURTHER INFORMATION CONTACT: Donna B. Whitaker, Director, Office of Information Management, Environment & Natural Resources Division, U.S. Department of Justice, P.O. Box 7754, Washington, DC 20044-7754, 202-616-3100.

In accordance with 5 U.S.C. 552a(r), the Department has provided a report to OMB and the Congress on the new system of records.

Dated: July 3, 2008.
Kenneth P. Mortensen,
Acting Chief Privacy and Civil Liberties Officer.

Department of Justice

Justice/ENRD-002

System name:

Personnel Locator System, Environment and Natural Resources Division (ENRD-002).

Security classification:

Sensitive but unclassified.

System location:

U.S. Department of Justice, Environment and Natural Resources Division, 950 Pennsylvania Ave., NW., Washington, DC 20530, and other ENRD field offices throughout the United States.

Categories of individuals covered by the system:

Employees, Student Aides, Law Clerks, Volunteers, Contractors and other personnel employed by or otherwise affiliated with the Environment and Natural Resources Division, U.S. Department of Justice.

Categories of records in the system:

The locator portion of the system will contain records filed by name of employee or affiliated personnel or individuals, including his or her position title; office location; office telephone and facsimile (fax) numbers; office address; professional electronic mail (e-mail) address(es); and optional voluntary photograph. Locator information will also include professional background records filed by name of employee or affiliated personnel, listing any voluntary, self-declared experience, skill or certification in the following areas: Law school name and year(s) of graduation; clerkships; bar memberships; advanced degrees earned; foreign language expertise; Notary Public commission. The emergency contact information module of the Personnel Locator System will contain comprehensive contact information from employees or affiliated personnel that may be used to contact the person named, or his/her authorized designee, in the event of an emergency during or outside of official duty hours. Information categories include home addresses and telephone numbers; cellular telephone numbers; pager numbers; other alternate telephone numbers where persons or their designees may be reached while away on travel, assigned work detail, or other extended absence from the office; electronic mail (e-mail) addresses; names, telephone numbers and e-mail addresses of family members or other emergency contacts; and other contact information persons may wish to provide. The system will also include audit information for emergency contact information to track changes that are updated by authorized emergency coordinators, managers and system administrators.

Authority for Maintenance of the System:

Authority to establish and maintain this system is contained in 5 U.S.C. 301 and 44 U.S.C. 3101, which authorize the Attorney General to create and maintain federal records of agency activities, and is further described in 28 CFR 0.65 and 28 CFR 0.135, which give the Environment and Natural Resources Division authority to create and maintain federal records.

Purpose(s):

Division personnel collaborate on cases and matters requiring specialized legal expertise and often require assistance from colleagues with particular background or skills. The ENRD staff desires a centralized, searchable directory of employee expertise with associated locator information to facilitate professional contacts. ENRD desires to maintain its emergency contact database in the same system of records to assist with the ease of data entry and information updates for or by employees, and to simplify system maintenance for the system administrators. Submission of information to the PLS database is voluntary and electing not to participate will have no adverse impact on the selection, promotion or retention status of the non-participant.

Routine uses of records maintained in the system, including categories of users and the purposes of such uses:

(a) To a Member of Congress or staff acting upon the Member's behalf when the Member or staff requests the information on behalf of, and at the request of, the individual who is the subject of the record.

(b) To contractors, grantees, experts, consultants, students, and others performing or working on a contract, service, grant, cooperative agreement, or other assignment for the Federal Government, when necessary to accomplish an agency function related to this system of records.

(c) To the National Archives and Records Administration for purposes of records management inspections conducted under the authority of 44 U.S.C. 2904 and 2906.

(d) To a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

(e) Where a record, either alone or in conjunction with other information, indicates a violation or potential violation of law—criminal, civil, or regulatory in nature—the relevant records may be referred to the appropriate federal, state, local, territorial, tribal, or foreign law enforcement authority or other appropriate entity charged with the responsibility for investigating or prosecuting such violation or charged with enforcing or implementing such law.

(f) To appropriate agencies, entities, and persons when (1) the Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize or remedy such harm.

(g) To appropriate officials and employees of a federal agency or entity that requires information relevant to a decision concerning the hiring, appointment, or retention of an employee; the issuance, renewal, suspension, or revocation of a security clearance; the execution of a security or suitability investigation; the letting of a contract; or the issuance of a grant or benefit.

(h) In an appropriate proceeding before a court, grand jury, or administrative or adjudicative body, when the Department of Justice determines that the records are arguably relevant to the proceeding; or in an appropriate proceeding before an administrative or adjudicative body when the adjudicator determines the records to be relevant to the proceeding.

(i) To such recipients and under such circumstances and procedures as are mandated by federal statute or treaty.

Disclosure to consumer reporting agencies:

None.

Policies and practices for storing, retrieving, accessing, retaining, and disposing of records in the system:

Storage:

Information will be stored electronically in a database located on a server connected to the Division's intranet. In accordance with ENRD's emergency planning policies, ENRD databases also are copied offsite on a mirror system to which data are replicated every 24 hours.

Retrievability:

Information is retrieved by the individual's name or by subject matter.

Safeguards:

Access to the Personnel Locator System is restricted to ENRD personnel, contractors and other affiliated persons with accounts on the Division's computer network because it is accessed via the Division's intranet. Information access will be governed by security safeguards as described below:

(1) General locator information: Data editors will be restricted to ENRD Executive Office personnel, contractors, and other affiliated staff. All ENRD personnel may view these records in read-only format.

(2) Professional background information: Each staff member may edit his or her own record to keep information accurate and current. Personnel may not edit records other than their own. System administrators will have full editing privileges over these records. Other ENRD personnel may view these records in read-only format.

(3) Emergency contact information: Each person will be able to view and edit his or her own emergency contact information record so that he or she may keep this information accurate and current. ENRD emergency coordinators and managers will have editing rights according to level of responsibility so that they may update these records on behalf of staff, if necessary, during emergencies or as needed at other times. System administrators will have full editing privileges over these records. Viewing privileges will be restricted to managers and certain other employees or contractors with a need to know.

Technical equipment for the Personnel Locator System database is maintained in buildings with restricted access and is safeguarded in accordance with applicable rules and policies, including the Department's automated systems security and access policies. The offsite mirror system servers are physically and electronically secure to top-level DOJ systems personnel and the ENRD senior systems engineer.

Retention and disposal:

Records are retained during their useful life in accordance with records retention schedules approved by the National Archives and Records Administration. The records will be purged from the database when they no longer are needed for business purposes, or after 3 years, whichever is later.

System manager(s) and address:

Director, Office of Information Management, Executive Office, Environment and Natural Resources Division, U.S. Department of Justice, P.O. Box 7754, Ben Franklin Station, Washington, DC 20044-7754.

Notification procedure:

Address inquiries to the FOIA/Privacy Act Coordinator, Environment and Natural Resources Division, Law and Policy Section, P.O. Box 4390, Ben Franklin Station, Washington, DC 20044-4390.

Record access procedures:

Access to the Personnel Locator System is restricted to ENRD personnel, contractors and other affiliated persons with accounts on the Division's computer network because it is accessed via the Division's intranet.

(1) General locator information: All ENRD personnel may view these records in read-only format.

(2) Professional background information: Each staff member may access and edit his or her own record to keep information accurate and current. Personnel may not edit records other than their own. System administrators will have full editing privileges over these records. Other ENRD personnel may view these records in read-only format.

(3) Emergency contact information: Each person will be able to access and edit his or her own emergency contact information record so that he or she may keep this information accurate and current. ENRD emergency coordinators and managers will have editing rights according to level of responsibility so that they may update these records on behalf of staff, if necessary, during emergencies or as needed at other times. System administrators will have full editing privileges over these records. Viewing privileges will be restricted to managers and certain other employees or contractors with a need to know.

All other requests for access should be submitted in writing. Clearly mark the envelope and letter, “Privacy Act Access Request.” Include in the request your full name, date and place of birth, case caption, or other information which may assist in locating the records you seek. Also include your notarized signature, or a dated and signed statement under penalty of perjury, and a return address. Direct all access requests to the FOIA/Privacy Act Coordinator; Environment and Natural Resources Division; Law and Policy Section; P.O. Box 4390, Ben Franklin Station; Washington, DC; 20044-4390.

Contesting record procedures:

If staff members wish to amend information maintained in the system, they may amend their own personal and professional background records, or emergency contact information data as described above under “Record Access Procedures.” Requests to amend or update other general locator information or the personal photograph may be directed to system administrators.

You may also seek to amend or contest information maintained in the system, by directing a written request to the FOIA/PA Coordinator at the address above, stating clearly and concisely what information is being contested, the reasons for contesting it, and the proposed amendment to the information you seek.

Record source categories:

Sources of information contained in this system are (1) the ENRD Executive Office, furnishing employee locator information, and (2) the ENRD employees, student aides, law clerks, and volunteers, contractors, and other associated personnel who furnish the remaining employee locator information; the professional background data; and the emergency contact data.

Exemptions claimed for the system:

None.

[FR Doc. E8-15672 Filed 7-9-08; 8:45 am]

BILLING CODE 4410-15-P